SMALL BUSINESS ADMINISTRATION

[Disaster Declaration # 11480]

Oklahoma Disaster Number OK-00025

AGENCY: U.S. Small Business Administration.

ACTION: Amendment 1.

SUMMARY: This is an amendment of the Presidential declaration of a major disaster for Public Assistance Only for the State of Oklahoma (FEMA-1803-DR), dated 10/09/2008.

Incident: Severe Storms, Tornadoes, and Flooding.

Incident Period: 09/12/2008 through 09/19/2008.

Effective Date: 10/24/2008.

Physical Loan Application Deadline Date: 12/08/2008.

Economic Injury (EIDL) Loan Application Deadline Date: 07/09/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of OKLAHOMA, dated 10/09/2008, is hereby amended to include the following areas as adversely affected by the disaster.

Primary Counties: Garfield.

All other information in the original declaration remains unchanged.

(Catalog of Federal Domestic Assistance Numbers 59002 and 59008)

Herbert L. Mitchell,
Associate Administrator for Disaster Assistance.

[FR Doc. E8-26150 Filed 10-31-08; 8:45 am]

BILLING CODE 8025-01-P